DEPARTMENT OF LABOR

Employment and Training Administration

Agency Information Collection Activities; Comment Request

ACTION: Notice.

SUMMARY: The Department of Labor's (DOL) Employment and Training Administration (ETA) is soliciting comments concerning a proposed extension for the authority to conduct the information collection request (ICR) titled, “National Dislocated Workers Emergency Grant Application and Reporting Procedures.” This comment request is part of continuing Departmental efforts to reduce paperwork and respondent burden in accordance with the Paperwork Reduction Act of 1995 (PRA).

DATES: Consideration will be given to all written comments received by May 9, 2022.

ADDRESSES: A copy of this ICR with applicable supporting documentation, including a description of the likely respondents, proposed frequency of response, and estimated total burden, may be obtained free by contacting Ingrid Schonfield by telephone at 202-693-0269 (this is not a toll-free number), TTY 1-877-889-5627 (this is not a toll-free number), or by email at schonfield.ingrid.n@dol.gov.

Instructions: Submit written comments about, or requests for a copy of, this ICR by mail or courier to the U.S. Department of Labor, Employment and Training Administration, Office of Workforce Investment, 200 Constitution Avenue NW, Washington, DC 20210; by email: schonfield.ingrid.n@dol.gov; or by fax 202-693-3817. To ensure proper consideration, include the Office of Management and Budget (OMB) control number 1205-0439.

Comments Under the PRA: In addition to filing comments with the Department, interested parties may submit comments concerning this ICR to OMB's Office of Information and Regulatory Affairs (OIRA) at https://www.reginfo.gov/public/do/PRAMain. Find the relevant information collection by selecting “Currently under Review—Open for Public Comments” or by using the search function.

FOR FURTHER INFORMATION CONTACT: Contact Ingrid Schonfield by telephone at 202-693-0269 (this is not a toll-free number) or by email at schonfield.ingrid.n@dol.gov.

SUPPLEMENTARY INFORMATION: National Dislocated Worker Grants (NDWGs) are discretionary grants awarded by the Secretary of Labor under Section 170 of the Workforce Innovation and Opportunity Act (WIOA). NDWGs provide states and other eligible applicants resources to respond to large, unexpected layoff events causing significant job losses. NDWG funds temporarily expand state, regional, and local workforce system capacity to serve dislocated workers, meet the increased demand for WIOA employment and training services, quickly reemploy laid-off workers, and enhance their employability and earnings. The NDWG legacy application and modification forms (ETA-9103, ETA-9105, ETA-9106, and ETA-9107) include project planning, employer, project summary, and project operator information. These legacy forms and application processes constitute the information collection request. ETA expects these forms to sunset shortly as all NDWG applications shift to the grants.gov application process associated with a different information collection.

DOL, as part of continuing efforts to reduce paperwork and respondent burden, conducts a pre-clearance consultation program to provide the general public and Federal agencies an opportunity to comment on proposed and/or continuing collections of information before submitting them to the OMB for final approval. This public comment process helps to ensure requested data can be provided in the desired format; reporting burden (time and financial resources) is minimized; collection instruments are clearly understood, and the impact of collection requirements can be properly assessed.

This information collection is subject to the PRA. A Federal agency generally cannot conduct or sponsor a collection of information, and the public is generally not required to respond to an information collection unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. To help ensure appropriate consideration, comments should mention OMB control number 1205-0439.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: National Dislocated Workers Emergency Grant Application and Reporting Procedures.

Form: ETA 9103-1, ETA 9103-2a, ETA 9103-2b, ETA 9103-3, ETA 9105, ETA 9106, ETA 9107.

OMB Control Number: 1205-0439.

Affected Public: State, local, and tribal governments.

Estimated Number of Respondents: 159.

Frequency: Once.

Total Estimated Annual Responses: 951.

Estimated Average Time per Response: Varies.

Estimated Total Annual Burden Hours: 768 hours.

Total Estimated Annual Other Cost Burden: $0.

Angela Hanks,
Acting Assistant Secretary, Labor.

[FR Doc. 2022-04956 Filed 3-8-22; 8:45 am]

BILLING CODE 4510-FN-P